DEPARTMENT OF ENERGY

Federal Energy Regulatory Commission

Uniontown Hydro, LLC, Project No. 12958-001-Kentucky and Indiana, Uniontown Hydroelectric Project; Newburgh Hydro, LLC, Project No. 12962-001-Kentucky and Indiana, Newburgh Hydroelectric Project; Notice of Revised Restricted Service List for a Programmatic Agreement

Rule 2010 of the Federal Energy Regulatory Commission's (Commission's) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Kentucky State Historic Preservation Officer (SHPO), the Indiana SHPO, and the Advisory Council on Historic Preservation (Advisory Council) pursuant to the Advisory Council's regulations, 36 CFR Part 800, implementing section 106 of the National Historic Preservation Act, as amended (16 U.S.C. 470f), to prepare a programmatic agreement for managing properties included in, or eligible for inclusion in, the National Register of Historic Places that could be affected by issuances of licenses for the proposed Uniontown Hydroelectric Project and Newburgh Hydroelectric Project.

The programmatic agreement, when executed by the Commission, the Kentucky SHPO, the Indiana SHPO, and the Advisory Council would satisfy the Commission's section 106 responsibilities for all individual undertakings carried out in accordance with the licenses until the licenses expire or are terminated (36 CFR 800.13(e)). The Commission's responsibilities pursuant to section 106 for the proposed projects would be fulfilled through the programmatic agreement, which the Commission staff proposes to draft in consultation with certain parties.

On December 8, 2010, the Commission staff established a restricted service list for the proposed Uniontown Hydroelectric Project and Newburgh Hydroelectric Project.

The Commission staff is updating the restricted service list to reflect the parties as follows:

John Fowler, Executive Director, Advisory Council on Historic Preservation, The Old Post Office Building, Suite 803, 1100 Pennsylvania Avenue NW., Washington, DC 20004.

Jill A. McNutt, Kentucky Heritage Council, 300 Washington Street, Frankfort, KY 40601.

Phillip Johnson, Kentucky Heritage Council, 300 Washington Street, Frankfort, KY 40601.

Cathy Draeger-Williams, Indiana Division of Historic Preservation & Archaeology, 402 W. Washington Street, W274, Indianapolis, IN 46204.

Chad Slider, Indiana Division of Historic Preservation & Archaeology, 402 W. Washington Street, W274, Indianapolis, IN 46204.

Erik Steimle or Representative, Symbiotics, 2950 SE Stark Street, Suite 110, Portland, OR 97214.

Julie Olds, Miami Tribe of Oklahoma, P.O. Box 1326, Miami, OK 74355.

Bill Anoatubby, Governor, The Chickasaw Nation, P.O. Box 1548, Ada, OK 74821-1548.

Gingy Nail, THPO, The Chickasaw Nation, P.O. Box 1548, Ada, OK 74821-1548.

Ken Lamkin or Representative, U.S. Army Corps of Engineers, P.O. Box 59, Louisville, KY 40201-0059.

Dated: July 9, 2012.
Kimberly D. Bose,
Secretary.

[FR Doc. 2012-17319 Filed 7-16-12; 8:45 am]

BILLING CODE 6717-01-P